ENVIRONMENTAL PROTECTION AGENCY

40 CFR Part 52

[IL218-2a; FRL-7661-8]

Approval and Promulgation of Air Quality Implementation Plans; Illinois; Definition of Volatile Organic Material or Volatile Organic Compound

AGENCY: Environmental Protection Agency (EPA).

ACTION: Correction to a direct final rule; extension of the public comment period.

SUMMARY: This document contains corrections to the preamble and codification of a final rule which was published on March 23, 2004 (69 FR 13474). The rule being corrected approved revisions to Illinois' definition of volatile organic material (VOM) or volatile organic compound (VOC) contained in the Illinois State Implementation Plan (SIP). Because of the errors in the March 23, 2004, direct final rule which necessitated correction, EPA is extending the public comment period for 30 days from the publication of this correction and delaying the effective date of the direct final rule for 60 days from the date of the publication of this correction. This will provide the public with an opportunity to comment on the corrected rule before it takes effect.

DATES: The removal of § 52.720 (c)(168) is effective June 28, 2004. The addition of a new paragraph (c)(168) is effective August 27, 2004, unless EPA receives adverse written comments by July 28, 2004. If EPA receives adverse comments, EPA will publish a timely withdrawal of the rule in the Federal Register and inform the public that the rule will not take effect.

ADDRESSES: You may inspect copies of the documents relevant to this action during normal business hours at the following location: Criteria Pollutant Section, Air Programs Branch, (AR-18J), U.S. Environmental Protection Agency, Region 5, 77 West Jackson Boulevard, Chicago, Illinois 60604. Please contact Kathleen D'Agostino at (312) 886-1767 before visiting the Region 5 office.

Send written comments to: J. Elmer Bortzer, Chief, Criteria Pollutant Section, Air Programs Branch, (AR-18J), U.S. Environmental Protection Agency, Region 5, 77 West Jackson Boulevard, Chicago, Illinois 60604. bortzer.jay@epa.gov.

Comments may also be submitted electronically or through hand delivery/courier, please follow the detailed instructions described in Part(I)(B)(1)(i) through (iii) of the SUPPLEMENTARY INFORMATION section which begins in the third column on page 13474 of the March 23, 2004 (69 FR 13474) direct final rule.

FOR FURTHER INFORMATION CONTACT: Kathleen D'Agostino, Environmental Engineer, Criteria Pollutant Section, Air Programs Branch (AR-18J), U.S. Environmental Protection Agency, Region 5, 77 West Jackson Boulevard, Chicago, Illinois 60604, (312) 886-1767. dagostino.kathleen@epa.gov.

SUPPLEMENTARY INFORMATION: On March 23, 2004 (69 FR 13474), EPA approved revisions to Illinois' definition of VOM and VOC contained in the Illinois State Implementation Plan (SIP).

Need for Correction

As published, the direct final rule contains two errors. First, the rule identified the State definition of VOM or VOC as being codified at 35 Ill. Adm. Code 211.7250. This error was published in the first column on page 13476 under the heading “What has Illinois Submitted?” It also appears in the codification for this action, specifically in the introductory text of 40 CFR 52.720(c)(168) which is presented in the second column on page 13477. The correct State citation for this paragraph is 35 Ill. Adm. Code 211.7150. This citation was correctly presented in the “Incorporation by reference” section of the codification of this rule.

A second error in the March 23, 2004, direct final rule concerns the omission of methyl acetate from the list of nonreactive compounds being exempted from the State definition of VOM or VOC. This list of nonreactive compounds was presented in the “What has Illinois submitted?” section which was published in the first column on page 13476. It was also omitted from the list of nonreactive compounds being exempted from the State definition of VOM or VOC in the introductory text of 40 CFR 52.720(c)(168) where EPA's approval of these exemptions is codified.

Unless these errors are corrected, persons seeking a copy of the rules incorrectly cited in the codification of the direct final rule will be unable to locate the correct document. Readers of the codification will not know that methyl acetate has been exempted from the Illinois definition of VOM or VOC because it is considered to be negligibly photochemically reactive. EPA regrets any inconvenience that these errors have caused.

List of Subjects in 40 CFR Part 52

Environmental protection, Air pollution control, Incorporation by reference, Intergovernmental relations, Volatile organic compounds.

Dated: May 4, 2004.
Norman Niedergang,
Acting Regional Administrator, Region 5.

Part 52, chapter I, title 40 of the Code of Federal Regulations is amended as follows:

PART 52—[AMENDED]

1. The authority citation for part 52 continues to read as follows:

Authority: 42 U.S.C. 7401 et seq.

Subpart O—Illinois

2. In § 52.720, paragraph (c)(168), added on March 23, 2004 (69 FR 13474), is removed.

3. In § 52.720, new paragraph (c)(168) is added to read as follows:

§ 52.720 Identification of plan.

* * * * *

(c) * * *

(168) On October 31, 2003, the Illinois Environmental Protection Agency submitted revisions to the Illinois State Implementation Plan for ozone. The submittal revises the definition for volatile organic material (VOM) or volatile organic compound (VOC) contained in 35 Ill. Adm. Code 211.7150 to incorporate an exemption for perchloroethylene (tetrachloroethylene); 3,3-dichloro-1,1,1,2,2-pentafluoropropane (HCFC-225ca); 1,3-dichloro-1,1,2,2,3-pentafluoropropane (HCFC-225cb); decafluoropentane (HFC 43-10mee); difluoromethane (HFC-32); ethylfluoride (HFC-161); 1,1,1,3,3,3-hexafluoropropane (HFC-236fa); 1,1,2,2,3-pentafluoropropane (HFC-245ca); 1,1,2,3,3-pentafluoropropane (HFC-245ea); 1,1,1,2,3-pentafluoropropane (HFC-245eb); 1,1,1,3,3-pentafluoropropane (HFC-245fa); 1,1,1,2,3,3-hexafluoropropane (HFC-236ea); 1,1,1,3,3-pentafluorobutane (HFC-365mfc); chlorofluoromethane (HCFC-31); 1,2-dichloro-1,1,2-trifluoroethane (HCFC-123a); 1-chloro-1-fluoroethane (HCFC-151a); 1,1,1,2,2,3,3,4,4-nonafluoro-4-methoxybutane (C4F9OCH3); 2-(difluoromethoxymethyl)-1,1,1,2,3,3,3-heptafluoropropane ((CF3)2CFCF2OCH3); 1-ethoxy-1,1,2,2,3,3,4,4,4-nonafluorobutane (C4F9OC2H5); 2-(ethoxydifluoromethyl)-1,1,1,2,3,3,3-heptafluoropropane ((CF3)2CFCF2OC2H5); and methyl acetate from the definition of VOM or VOC and thereby, from regulation as ozone precursors.

(i) Incorporation by reference.

(A) Illinois Administrative Code Title 35: Environmental Protection, Subtitle B: Air Pollution, Chapter 1: Pollution Control Board, Subchapter c: Emission Standards and Limitations for Stationary Sources, Part 211: Definitions and General Provisions, Subpart B: Definitions, Section 211.7150 Volatile Organic Material (VOM) or Volatile Organic Compound (VOC), amended at 22 Illinois Register 11405, effective June 22, 1998.

[FR Doc. 04-14382 Filed 6-25-04; 8:45 am]

BILLING CODE 6560-50-P